DEPARTMENT OF HOUSING AND URBAN DEVELOPMENT

[Docket No. FR-7092-N-03]

Privacy Act of 1974; System of Records

AGENCY: Office of Housing, HUD.

ACTION: Notice of a Rescindment of a System of Records.

SUMMARY: Pursuant to the provisions of the Privacy Act of 1974, as amended, the Department of the Housing and Urban Development (HUD), the Office of Housing, the Office of Lender Activities and Program Compliance, is issuing a public notice of its intent to rescind the Loan Review System (LRS) because the system does not qualify as a Privacy Act System of Records.

DATES: This System of Records rescindment is effective upon publication. The specific date for when this system ceased to be a Privacy Act System of Records is 12/08/2023.

ADDRESSES: You may submit comments, identified by one of the following methods:

Federal e-Rulemaking Portal: https://www.regulations.gov. Follow the instructions provided on that site to submit comments electronically.

Fax: 202-619-8365.

Email: privacy@hud.gov.

Mail: Attention: Privacy Office; LaDonne White, Chief Privacy Officer; The Executive Secretariat; 451 Seventh Street, SW, Room 10139; Washington, DC 20410-0001.

Instructions: All submissions received must include the agency name and docket number for this rulemaking. All comments received will be posted without change to https://www.regulations.gov including any personal information provided.

Docket: For access to the docket to read background documents or comments received go to https://www.regulations.gov.

FOR FURTHER INFORMATION CONTACT: LaDonne White, Chief Privacy Officer, 451 Seventh Street, SW, Room 10139; Washington, DC 20410; telephone number (202) 708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: The Loan Review System (LRS) is a system developed by HUD for managing and overseeing HUD loans. This system plays a critical role in supporting HUD's mission of creating strong, sustainable, inclusive communities and quality affordable homes for all. It helps ensure that the funds allocated for these purposes are used effectively and responsibly. Its key functions include streamlining the loan review process, risk management, data management and analysis, compliance monitoring, and reporting. The system is designed to be user-friendly and integrates with other HUD systems, ensuring that loans comply with HUD regulations and supporting HUD's mission to provide quality affordable homes and sustainable communities. The retrieval practice was evaluated, and it was determined that records within the system are not retrieved by an individual's personal unique identifier that qualifies for as SORN under the Privacy Act. The Department's Federal Housing Administration (FHA) Case Number or Loan Review ID Number retrieval does not constitute a retrieval for the purpose of the Privacy Act. Records retrieved by FHA-approved lending institutions will continue to be maintained by LRS.

SYSTEM NAME AND NUMBER:

Loan Review System (LRS).

HISTORY:

The previously published notice in the Federal Register [Docket Number 6009-N-01], on June 6, 2017, 82 FR 26705.

Ladonne White,
Chief Privacy Officer, Office of Administration.

[FR Doc. 2024-00185 Filed 1-8-24; 8:45 am]

BILLING CODE 4210-67-P